DEPARTMENT OF JUSTICE

Antitrust Division

Notice Pursuant to the National Cooperative Research and Production Act of 1993—Information Warfare Research Project Consortium

Notice is hereby given that, on July 29, 2022, pursuant to section 6(a) of the National Cooperative Research and Production Act of 1993, 15 U.S.C. 4301 et seq. (“the Act”), Information Warfare Research Project Consortium (“IWRP”) has filed written notifications simultaneously with the Attorney General and the Federal Trade Commission disclosing changes in its membership. The notifications were filed for the purpose of extending the Act's provisions limiting the recovery of antitrust plaintiffs to actual damages under specified circumstances. Specifically, Aalyria Technologies, Inc, Livermore, CA; acuCyber LLC, Mount Pleasant, SC; AMP Research, Inc., Naples, FL; Aperio Global, LLC, Reston, VA; Apogee Applied Research, Inc., Dayton, OH; ASEG, Inc., San Diego, CA; BrainGu, LLC, Grand Rapids, MI; Caliola Engineering LLC, Colorado Springs, CO; Cummings Aerospace, Inc., Huntsville, AL; Cynnovative LLC, Arlington, VA; Datalytica LLC, Laurel, MD; DEL REY Systems and Technology, Inc., San Diego, CA; Dignitas Technologies, Orlando, FL; Disruptiv Technologies LLC, Edgewater, MD; DZYNE Technologies Incorporated, Fairfax, VA; Epirus, Inc., Hawthorne, CA; Fairwinds Technologies LLC, Annapolis, MD; Fathom5 Corp., Austin, TX; Federal Resources Corp., Erie, PA; GreenSight, Inc., Boston, MA; Hefring, Inc., Gloucester, MA; ISPA Technology LLC, Lithia, FL; Koniag Services, Inc., Chantilly, VA; Mainstream Engineering Corp., Rockledge, FL; Meridian Technologies I, LLC., Jacksonville, FL; Metamagnetics, Inc., Westborough, MA; Naval Systems, INC., Lexington Park, MD; NetImpact Strategies, Inc., Falls Church, VA; OASYS, Inc., Huntsville, AL; Platform Systems, Incorporated, Hollywood, MD; Polaron Analytics, Beavercreek, OH; Qualcomm Technologies, Inc., San Diego, CA; QuesTek Innovations, Evanston, IL; RackTop Systems, Inc., Fulton, MD; Ravn, Inc., San Francisco, CA; Sage Analysis Group, Inc., Boston, MA; SMS Data Products Group, Inc., McLean, VA; Software AG Government Solutions, Inc., Herndon, VA; Summit2Sea Consulting, LLC., Arlington, VA; Tesla Government Inc., Falls Church, VA; Trusted Science and Technology, Inc., Bethesda, MD; VAE, Inc., Springfield, VA; Vana Solutions, LLC., Beavercreek, OH; VG IT Services, Inc., Ashburn, VA; and W5 Technologies, Inc., Scottsdale, AZ have been added as parties to this venture.

Also, 1901 Group LLC, Reston, VA; Alteryx, Inc., Irvine, CA; Aptima, Inc., Woburn, MA; Assured Wireless Corp., San Diego, CA; AT&T Government Solutions, Inc., Vienna, VA; Broadband Antenna Tracking Systems, Inc., Indianapolis, IN; Clemson University, Clemson, SC; Decisive Analytics Corp., Arlington, VA; Dover Microsystems, Inc., Waltham, MA; EPS Corp., Tinton Falls, NJ; Global Planning Initiatives LLC, Virginia Beach, VA; HigherEchelon, Inc., Huntsville, AL; Inonde, McLean, VA; IT Partners, Inc., Herndon, VA; KNC Strategic Services, Oceanside, CA; Kopis Mobile LLC, Flowood, MS; Kudu Dynamics LLC, Chantilly, VA; L3Harris Technologies, Palm Bay, FL; Lexington Solutions Group LLC, Lexington, VA; Motorola Solutions, Inc. US Federal Markets Division, Linthicum, MD; NewSat North America LLC, Indian Harbour Beach, FL; Nobletech Solutions, Huntsville, AL; Poplicus, Inc. dba Govini, Arlington, VA; ProSync Technology Group, Ellicott City, MD; Rincon Research Corp., Tucson, AZ; SafeFlights, Inc. dba 14bis Supply Tracking, Burlington, MA; Shield AI, Inc., San Diego, CA; Shift5, Inc., Rosslyn, VA; Si2 Technologies, Inc., North Billerica, MA; Southern Methodist University, Dallas, TX; Streif Enterprise, Inc. dba ibeeto, El Cajon, CA; Taurean General Services, Boerne, TX; XATOR Corp., Reston, VA; and XR 2 LEAD LLC, Dumfries VA have withdrawn from this venture.

No other changes have been made in either the membership or planned activity of the group research project. Membership in this group research project remains open, and IWRP intends to file additional written notifications disclosing all changes in membership.

On October 15, 2018, IWRP filed its original notification pursuant to section 6(a) of the Act. The Department of Justice published a notice in the Federal Register pursuant to section 6(b) of the Act on October 23, 2018 (83 FR 53499).

The last notification was filed with the Department on April 6, 2022. A notice was published in the Federal Register pursuant to section 6(b) of the Act on May 13, 2022 (87 FR 29385).

Suzanne Morris,
Chief, Premerger and Division Statistics Antitrust Division.

[FR Doc. 2022-18695 Filed 8-29-22; 8:45 am]

BILLING CODE P